DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of July 2004.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (No shift in production to a foreign country) have not been met.

TA-W-55,142; Riddle Fabrics, Inc., Kings Mountain, NC

TA-W-55,202; Wellstone Mills, LLC, Lakeside I and II Plants, Eufaula, AL

TA-W-55,246; Fresenius Medical Care, Delran, NJ

TA-W-55,088; United Steel Enterprises, Inc., d/b/a United Steel Products, Inc., East Stroudsburg, PA

TA-W-55,064; Annin & Co., Inc., Roseland, NJ

TA-W-55,063; Milliken & Company, Gillespie Plant, Textile Manufacturing Division, Union, SC

TA-W-55,096; Elizabeth City Cotton Mills, Div. of Robinson Manufacturing Co., Elizabeth City, NC

TA-W-55,059; Technical Machining Services, Inc., Rogers, AR

TA-W-55,082A; Chieftain Technologies, Inc., including leased workers of Westaff, Inc., Owosso, MI

The workers firm does not produce an article as required for certification under Section 222 of the Trade Act of 1974.

TA-W-55,179; MCI, Inc., MCI Customer Service, Springfield, MO

TA-W-55,121; Shell Information Technology International Site Services, Houston, TX

TA-W-55,175; Levi Strauss and Company, Knoxville Area Office, Knoxville, TN

TA-W-55,177; Angus Consulting Management, Inc., on site Workers at Lucent Technologies, formerly known as Celestica Corporation, Oklahoma City, OK

TA-W-55,214; Lufthansa German Airlines, Finance Administration, East Meadow, NY

TA-W-55,195; Aegis Communications Group, In., St. Joseph, MO

TA-W-55,075 & A,B,C; Quitman Manufacturing Co., Showroom, New York, NY, Production, Woodsburgh, NY, Design, Putnam Valley, NY and Sales, Sharon, MA

TA-W-55,231; MCI, Wichita, KS

TA-W-55,236; VF Playwear, Inc., Distribution Center, Trenton, SC

TA-W-55,157; Creditek LLC, Shared Services Div., Wilkes Barre, PA

TA-W-55,141; Vardi Stonehouse, Inc., Long Island City, NY

The investigation revealed that criterion (a)(2)(A)(I.A) and (a)(2)(B)(II.A) (no employment decline) has not been met.

TA-W-55,166; E-Z-Go Textron, Augusta, GA

The investigation revealed that criterion (a)(2)(A)(I.B) (Sales or production, or both, did not decline) and (a)(2)(B)(II.B) (has shifted production to a country not under the free trade agreement with U.S.) have not been met.

TA-W-55,209; Gerity-Schultz Corp., Toledo, OH

TA-W-55,132; Grede Foundries, Inc., Iron Mountain Div., Kingsford, MI

The investigation revealed that criteria (a)(2)(A)(I.A) (no employment decline) has not been met and (a)(2)(B)(II.B) (has shifted production to a foreign country not under the free trade agreement with U.S.) have not been met.

TA-W-55,123; Tyco International, Inc., Healthcare-Retail Group Div., including on-site leased workers from Manpower, Inc., Waco, TX

The investigation revealed that criteria (a)(2)(A)(I.C) (Increased imports) and (II.C) (Has shifted production to a foreign country) have not been met.

TA-W-55,204; Portola Packaging, Inc., Equipment Div., New Castle, PA

TA-W-55,213B; Kimberly-Clark Corp., Pepco Product Line, including leased workers of SOS Temporary Services, Draper, UT

The investigation revealed that criteria (2) has not been met. The workers firm (or subdivision) is not a supplier or downstream producer to trade-affected companies

TA-W-55,112; SCP Global Technologies, Boise, ID

TA-W-55,288; Center Manufacturing, Inc., Plant 5, Williamsport, PA

Affirmative Determinations for Worker Adjustment Assistance

The following certifications have been issued; the date following the company name and location of each determination references the impact date for all workers of such determination.

The following certifications have been issued. The requirements of (a)(2)(A) (increased imports) of Section 222 have been met.

TA-W-55,032; Henagar Hosiery, Inc., Henagar, AL: May 21, 2003.

TA-W-55,103; C and S Sewing, Inc., San Francisco, CA: June 10, 2003.

TA-W-55,134; Sara Lee Underwear, Cutting Division, including leased workers of Express Personnel, Asheboro, NC: June 22, 2003.

TA-W-55,129; Fashion Elite, Inc., San Francisco, CA: June 16, 2003.

TA-W-55,150; T.L. Care, Inc., San Francisco, CA: June 24, 2003.

TA-W-55,170; Solvay Fluorides, Inc. LLC, Dry Salts Plant, Alorton, IL: June 23, 2003.

TA-W-55,226; Valley Industries, Inc., Cincinnati, OH: July 8, 2003.

TA-W-55,010; Rochelle Furniture, Montgomery, PA: June 1, 2003.

TA-W-54,836; Birds Eye Foods, Inc., Fond du Lac, WI: April 30, 2003.

TA-W-55,174; Melling Forging Co., a subsidiary of Avis Industrial Corp., Lansing, MI: June 29, 2003.

TA-W-55,176; Tooling Unlimited, Inc., Lino Lakes, MN: June 28, 2003.

TA-W-55,118 & A,B,C,D; Frick Gallagher Manufacturing Co., Wellston, OH, Lancaster, OH, San Leandro, CA, San Antonio, TX and Addison, IL: June 18, 2003.

TA-W-55,040; Corning Asahi Video Products Company, State College, PA: March 7, 2004.

TA-W-55,127; Frybrant, Inc., Frederick, OK: June 14, 2003.

TA-W-55,130; Lee Middleton Original Dolls, Inc., Belpre, OH: June 22, 2003.

TA-W-55,131; Vaughan Furniture Co., Inc., Stuart, VA: June 18, 2003.

TA-W-55,143; Oxford Industries, Inc., Next Day Apparel, Walhalla, SC: June 14, 2003.

TA-W-55,086; Mayfield Cap Co., Mayfield, KY: June 9, 2003.

TA-W-55,119; Allegheny Cast Metals, Inc., Titusville, PA: June 11, 2003.

TA-W-55,211; Bryan China Company, New Castle, PA: June 30, 2003.

TA-W-55,223; Indalex, Inc., Berlin, CT: July 8, 2003.

TA-W-55,187; Quality Metal Finishing Co., including leased workers of Job Smart and S&H Spherion, Byron, IL: June 30, 2003.

TA-W-55,160; A.H. Schreiber Co., Inc., Bristol, TN: June 29, 2003.

TA-W-55,101; Ideal Frame Co., Inc., Taylorsville, NC: June 15, 2003.

TA-W-55,137; Ames Screw Machine Products, Inc., Addison, IL: June 23, 2003.

TA-W-55,163; Shure, Inc., El Paso, TX: June 10, 2003.

TA-W-55,200; Ozark Irons Works, LLC, a/k/a Calico Rock Ironworks, Inc., a subsidiary of Sommer Metalcraft, Calico Rock, AR: July 6, 2003.

TA-W-55,217; Rexam Cosmetic Packaging, Inc., Torrington, CT: July 8, 2003.

TA-W-55,082; Chieftain Products, Inc., Owosso, MI: June 14, 2003.

TA-W-54,104; Woodstuff Manufacturing, d/b/a Samuel Lawrence Furniture Co., Phoenix, AZ: January 15, 2003.

The following certifications have been issued. The requirements of (a)(2)(B) (shift in production) of Section 222 have been met.

TA-W-55,173; Facemate Corporation, Greenwood, SC: June 29, 2003.

TA-W-55,228; TAB Products Company, LLC, Pocket Folder Division, Mayville, WI: July 1, 2003.

TA-W-54,909; Atlantic Salmon of Maine LLC, a div. of Horton's of Maine, Inc., a subsidiary of Cooke Aquaculture, including leased workers of Combines Management, Inc., Machiasport, ME: May 4, 2003.

TA-W-55,201; Royal Home Fashions, a subsidiary of Croscill, Inc., Plant 3, Durham, NC: July 1, 2003.

TA-W-55,081; National Distribution Center, a subsidiary of National Freight Industries, Lexington, KY: May 18, 2003.

TA-W-55,165; Creo Americas, Inc., Creo Seattle Div. a subsidiary of Creo, Inc., Lynwood, WA: June 28, 2003.

TA-W-55,128; The Hoover Company, a Manufacturing Div., a subsidiary of Maytag Corp., El Paso, TX: June 7, 2003.

TA-W-55,122; Von Weise Gear Company, St. Claire, MO: June 21, 2003.

TA-W-54,997 & A; G & K Services, Teamwear Div., Richton, MS and Laurel, MS: May 21, 2003.

TA-W-55,242; Schrader-Bridgeport, including leased workers of Staffmark, Inc., Monroe, NC: July 13, 2003.

TA-W-55,104; Geschmay Corp., a div. of Albany International, Greenville, SC: June 8, 2003.

TA-W-55,120; AGFA Corp., a subsidiary of AGFA-Gevaert, Wilmington, MA: June 11, 2003.

TA-W-55,191; TI Group Automotive Systems, LLC, Greeneville Plant, Greeneville, TN: June 25, 2003.

TA-W-55,206; American Lock Co., Crete, IL: July 6, 2003.

TA-W-55,251; DeRoyal Industries, Inc., DeRoyal Surgical Div., Rose Hill, VA: July 7, 2003.

TA-W-55,258; Marion County Shirt Co., a div. of Capital Mercury Apparel, Yellville, AR: July 14, 2003.

TA-W-55,164; Titmus Optical, Inc., Petersburg, VA: June 24, 2003.

TA-W-55,218; Brandy Worldwide, Inc., Good Hope Road Plant, including on-site leased workers from Manpower, Inc., Milwaukee, WI: July 7, 2003.

TA-W-55,091; Honeywell, Inc., Aerospace-Hydromechanical Fuel Controls Div., Machining and Operations Group, Rocky Mount, NC: June 14, 2003.

TA-W-55,069; Eaton Aeroquip, Inc., Global Hose Div., Hohenwald, TN: June 9, 2003.

TA-W-55,079; OSRAM Sylvania, General Lighting Div., Winchester, KY: June 14, 2003.

TA-W-55,190; Anchor Group, Sacramento, CA: June 15, 2003.

TA-W-55,248; Marley Cooling Technologies, Concordia, MO: July 9, 2003.

TA-W-55,225; Model Die Casting, Inc., Carson City, NE: June 18, 2003.

TA-W-55,213 & A,C,D; Kimberly-Clark Corp., Trach Care Product Line, including leased workers of SOS Temporary Services, Draper, UT, Multi Vac Product Line, including leased workers of SOS Temporary Services, Draper, UT, Cleaning Brushes Product Line, including leased workers of SOS Temporary Services, Pocatello, ID and Extension Sets Product Line, including leased workers of SOS Temporary Services, Pocatello, ID: June 29, 2003.

The following certification has been issued. The requirement of upstream supplier to a trade certified primary firm has been met.

TA-W-55,241; Larimer and Norton, Inc., a subsidiary of Hillerich and Bradsby Co., Inc., Hancock, NY: July, 13, 2003.

TA-W-55,181; Thomasville Veneer Co., Thomasville, NC: June 28, 2003.

Negative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

The Department has determined that criterion (1) of Section 246 has not been met. Workers at the firm are 50 years of age or older.

TA-W-54,909; Atlantic Salmon of Maine LLC, a div. of Horton's of Maine, Inc., a subsidiary of Cooke Aquaculture, including leased workers of Combines Management, Inc., Machiasport, ME.

The Department has determined that criterion (2) of Section 246 has not been met. Workers at the firm possess skills that are easily transferable.

TA-W-55,201; Royal Home Fashions, a subsidiary of Croscill, Inc., Plant 3, Durham, NC.

TA-W-55,226; Valley Industries, Inc., Cincinnati, OH.

TA-W-55,010; Rochelle Furniture, Montgomery, PA.

TA-W-54,836; Birds Eye Foods, Inc., Fond du Lac, WI.

TA-W-55,081; National Distribution Center, a subsidiary of National Freight Industries, Lexington, KY.

TA-W-55,174; Melling Forging Company, a subsidiary of Avis Industrial Corp., Lansing, MI.

TA-W-55,165; Creo Americas, Inc., Creo Seattle Div., a subsidiary of Creo, Inc., Lynwood, WA.

TA-W-55,118 A,B,C,D; Frick Gallagher Manufacturing Company, Lancaster, OH, San Leandro, CA, San Antonio, TX and Addison, IL.

TA-W-55,213 & A,C,D; Kimberly-Clark Corp., Trach Care Product Line, including leased workers of SOS Temporary Services, Draper, UT, Multi Vac Product Line, including leased workers of SOS Temporary Services, Draper, UT, Cleaning Brushes Product Line, including leased workers of SOS Temporary Services, Pocatello, ID and Extension Sets Product Line, including leased workers of SOS Temporary Services, Pocatello, ID.

The Department has determined that criterion (3) of Section 246 has not been met. The competitive conditions within the workers' industry is adverse.

TA-W-55,117; Bausch and Lomb, St. Louis, MO.

Since the workers are denied eligibility to apply for TAA, the workers cannot be certified eligible for ATAA.

TA-W-55,141; Vardi Stonehouse, Inc., Long Island City, NY.

TA-W-55,157; Creditek LLC, Shared Services Division, Wilkes Barre, PA.

TA-W-54,236; VF Playwear, Inc., Distribution Center, Trenton, SC.

TA-W-55,096; Elizabeth City Cotton Mills, Division of Robinson Manufacturing Co., Elizabeth City, NC.

TA-W-55,132; Grede Foundries, Inc., Iron Mountain Div., Kingsford, MI.

TA-W-55,204; Portola Packaging, Inc., Equipment Div., New Castle, PA.

TA-W-55,231; MCI, Wichita, KS.

TA-W-55,075 & A,B, C; Quitman Manufacturing Co., Showroom, New York, NY, Production, Woodburgh, NY, Design, Putnam Valley, NY and Sales, Sharon, MA.

TA-W-55,059; Technical Machining Services, Inc., Rogers, AR.

TA-W-55,195; Aegis Communications Group, Inc., St. Joseph, MO.

TA-W-55,112; SCP Global Technologies, Boise, ID.

TA-W-55,209; Gerity-Schultz Corp., Toledo, OH.

TA-W-55,214; Lufthansa German Airlines, Finance Administration, East Meadow, NY.

TA-W-55,288; Center Manufacturing, Inc., Plant 5, Williamsport, PA.

TA-W-55,177; Angus Consulting Management, Inc., on site workers at Lucent Technologies, formerly known as Celestica Corp., Oklahoma City, OK.

TA-W-55,175; Levi Strauss and Company, Knoxville, TN.

TA-W-55,166; E-Z-Go Textron, Augusta, GA.

TA-W-55,123; Tyco International, Inc., Healthcare-Retail Group Div., including on-site leased workers from Manpower, Inc., Waco, TX.

TA-W-55,213B; Kimberly-Clark Corp., Pepco Product Line, including leased workers of SOS Temporary Services, Draper, UT.

Affirmative Determinations for Alternative Trade Ajdustment Assistance

In order for the Division of Trade Adjustment Assistance to issued a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-54,997 & A; G & K Services, Teamwear Div., Richton, MS and Laurel, MS: May 21, 2003.

TA-W-55,118; Frick Gallagher Manufacturing Co., Wellston, OH: June 18, 2003.

TA-W-55,176; Tooling Unlimited, Inc., Lino Lakes, MN: June 28, 2003.

TA-W-55,242; Schrader-Bridgeport, including leased workers of Staffmark, Inc., Monroe, NC: July 13, 2003.

TA-W-55,040; Corning Asahi Video Products Co., State College, PA: May 7, 2994.

TA-W-55,104; Geschmay Corporation, a div. of Albany International, Greenville, SC: June 8, 2003.

TA-W-55,120; Agfa Corporation, a subsidiary of Agfa-Gevaert, Wilmington, MA: June 11, 2003.

TA-W-55,127; Frybrant, Inc., Frederick, OK: June 14, 2003.

TA-W-55,130; Lee Middleton Original Dolls, Inc., Belpre, OH: June 22, 2003.

TA-W-55,131; Vaughan Furniture Company, Inc., Stuart, VA: June 18, 2003.

TA-W-54,143; Oxford Industries, Inc., Next Day Apparel, Walhalla, SC: June 14, 2003.

TA-W-55,191; TI Group Automotive Systems, LLC, Greeneville Plant, Greeneville, TN: June 25, 2003.

TA-W-55,206; American Lock Co., Crete, IL: July 6, 2003.

TA-W-55,086; Mayfield Cap Co., Mayfield, KY: June 9, 2003.

TA-W-54,119; Allegheny Cast Metals, Inc., Titusville, PA: June 11, 2003

TA-W-55,181; Thomasville Veneer Co., Thomasville, NC: June 28, 2003.

TA-W-55,211; Bryan China Company, New Castle, PA: June 30, 2003.

TA-W-55,223; Indalex, Inc., Berlin, CT: July 8, 2003.

TA-W-55,241; Larimer and Norton, Inc., a subsidiary of Hillerich & Bradsby Co., Inc., Hancock, NY: July 13, 2003.

TA-W-55,251; Deroyal Industries, Inc., DeRoyal Surgical Div., Rose Hill, VA: July 7, 2003.

TA-W-55,258; Marion County Shirt Co., a div. of Capital Mercury Apparel, Yellville, AR: July 14, 2003.

TA-W-55,164; Titmus Optical, Inc., Petersburg, VA: June 24, 2003.

TA-W-55,218; Brady Worldwide, Inc., Good Hope Road Plant, including on-site leased workers from Manpower, Inc., Milwaukee, WI: July 7, 2003.

TA-W-55,187; Quality Metal Finishing Co., including leased workers of Job Smart and S & H Spherion, Byron, IL: June 30, 2003.

TA-W-55,160; A.H. Schreiber Co., Inc., Bristol, TN: June 29, 2003.

TA-W-55,091; Honeywell, Inc., Aerospace-Hydromechanical Fuel Controls Div., Machining and Operations Group, Rocky Mount, NC: June 14, 2003.

TA-W-55,069; Eaton Aeroquip, Inc., Global Hose Div., Hohnenwald, TN: June 9, 2003.

TA-W-55,079; OSRAM Sylvania, General Lighting Div., Winchester, KY: June 14, 2003.

TA-W-55,101; Ideal Frame Co., Inc., Taylorsville, NC: June 15, 2003.

TA-W-55,163; Shure, Inc., El Paso, TX: June 10, 2003.

TA-W-55,190; Anchor Group, Sacramento, CA: June 15, 2003.

TA-W-55,200; Ozark Irons Works, LLC, a/k/a Calico Rock Ironworks, Inc., a subsidiary of Sommer Metalcraft, Calico Rock, AR: July 6, 2003.

TA-W-55,225; Model Die Casting, Inc., Carson City, NE: July 9, 2003.

TA-W-55,217; Rexam Cosmetic Packaging, Inc., Torrington, CT: July 8, 2003.

I hereby certify that the aforementioned determinations were issued during the months of July 2004. Copies of these determinations are available for inspection in Room C-5311, U.S. Department of Labor, 200 Constitution Avenue, NW., Washington, DC 20210 during normal business hours or will be mailed to persons who write to the above address.

Dated: August 3, 2004.
Timothy Sullivan,
Director, Division of Trade Adjustment Assistance.

[FR Doc. 04-18231 Filed 8-9-04; 8:45 am]

BILLING CODE 4510-30-P